DEPARTMENT OF HOMELAND SECURITY

Coast Guard

33 CFR Part 165

[Docket No. USCG-2018-0692]

Safety Zones; Annual Events Requiring Safety Zones in the Captain of the Port Lake Michigan Zone—Menominee Waterfront Festival Fireworks

AGENCY: Coast Guard, DHS.

ACTION: Notice of enforcement of regulation.

SUMMARY: The Coast Guard will enforce a safety zone on Green Bay in Menominee, MI. This action is necessary and intended to protect the safety of life and property on navigable waters before, during, and immediately after a shore based firework display. During the enforcement period listed below, vessels and persons are prohibited from transiting through, mooring, or anchoring within this safety zone without approval from the Captain of the Port Lake Michigan or his or her designated representative.

DATES: The regulations in 33 CFR 165.929(f)(7) will be enforced from 9:30 p.m. through 10 p.m. on August 4, 2018.

FOR FURTHER INFORMATION CONTACT: If you have questions about this notice of enforcement, call or email MSTC Kaleena Carpino, Marine Event Coordinator, U.S. Coast Guard Sector Lake Michigan; telephone 414-747-7148, email D09-SMB-SECLakeMichigan-WWM@uscg.mil.

SUPPLEMENTARY INFORMATION: The Coast Guard will enforce the Safety Zone; Waterfront Festival Fireworks listed as item (f)(7) in Table 165.929 of 33 CFR 165.929. Section 165.929 lists annual events requiring safety zones in the Captain of the Port Lake Michigan zone. This safety zone will encompass all waters of Green Bay within an 1,000 foot radius from approximate launch position at 45°06.040 N 087°36.054 W (NAD, 83). This safety zone will be enforced from 9:30 p.m. through 10 p.m. on August 4, 2018.

Pursuant to 33 CFR 165.929, entry into, transiting, or anchoring within the safety zone during an enforcement period is prohibited unless authorized by the Captain of the Port Lake Michigan, or his or her designated on-scene representative. Those seeking permission to enter the safety zone may request permission from the Captain of Port Lake Michigan via Channel 16, VHF-FM. Vessels and persons granted permission to enter the safety zone shall obey the directions of the Captain of the Port Lake Michigan or his or her designated representative. While within a safety zone, all vessels shall operate at the minimum speed necessary to maintain a safe course.

This notice of enforcement is issued under authority of 33 CFR 165.929, Safety Zones; Annual events requiring safety zones in the Captain of the Port Lake Michigan zone, and 5 U.S.C. 552(a). In addition to this notice in the Federal Register, the Coast Guard will provide the maritime community with advance notification of this enforcement period via Broadcast Notice to Mariners and Local Notice to Mariners. The Captain of the Port Lake Michigan or his or her designated on-scene representative may be contacted via VHF Channel 16 or at (414) 747-7182.

Dated: July 24, 2018.
Thomas J. Stuhlreyer,
Captain, U.S. Coast Guard, Captain of the Port Lake Michigan.

[FR Doc. 2018-16756 Filed 8-3-18; 8:45 am]

BILLING CODE 9110-04-P